DEPARTMENT OF THE INTERIOR

National Park Service

National Register of Historic Places; Notification of Pending Nominations and Related Actions

Nominations for the following properties being considered for listing or related actions in the National Register were received by the National Park Service before September 15, 2007.

Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by October 16, 2007.

J. Paul Loether,
Chief, National Register of Historic Places/National Historic Landmarks Program.

ARIZONA

Coconino County

Hart Store, 100 Brewer Rd., Sedona, 07001099

COLORADO

Larimer County

Willard, Beatrice, Alpine Tundra Research Plots, US 34 at Rock Cut and Forest Canyon, Estes Park, 07001101

CONNECTICUT

Tolland County

Pinney, Eleazar, House, 82-84 Pinney St., Ellington, 07001100

DISTRICT OF COLUMBIA

District of Columbia

Martin Luther King Memorial Library, 901 G St., NW., Washington, 07001102

MASSACHUSETTS

Dukes County

West Chop Club Historic District, Iroquois Ave., Tisbury, 07001104

Franklin County

Heath Center Historic District, E. & W. Main Sts., 12 & 23 Avery Brook, 8 Taylor Brook, 1-51 Bray, Colrain Stage, 3-16 Ledges & 15-48 South Rds., Heath, 07001103

MISSOURI

St. Charles County

St. Mary's Institute of O'Fallon, 204 N. Main St., O'Fallon, 07001106

St. Louis County

Glen Echo Historic District, 3401 Lucas-Hunt Rd., 7202-48 Henderson Ave., 7200-71 St. Andrews Pl., Normandy and Glen Echo Park, 07001105

NEW JERSEY

Union County

Burial Ground of the Presbyterian Church in the West Fields of Elizabethtown, W. side of Mountain Ave., N. of Drift Way opposite 140 Mountain Ave., Westfield, 07001108

NEW MEXICO

San Miguel County

Las Vegas Municipal Building, (New Deal in New Mexico MPS), 727 Grand Ave., Las Vegas, 07001107

SOUTH CAROLINA

Anderson County

Kennedy Street School, 816 Kennedy St., Anderson, 07001111

SOUTH CAROLINA

Charleston County

Progressive Club, The, 3377 River Rd., Johns Island, 07001109

Orangeburg County

Great Branch Teacherage, 2890 Neeses Hwy., Orangeburg, 07001112

Richland County

Pacific Community Association Building, (Textile Mills designed by W.B. Smith Whaley MPS) 701 Whaley St., 214 Wayne St., Columbia, 07001110

A request for REMOVAL has been made for the following resource:

NEW MEXICO

Bernalillo County

Horn Oil Co. and Lodge 1720 Central Ave., Albuquerque, 97001591

[FR Doc. E7-19241 Filed 9-28-07; 8:45 am]

BILLING CODE 4312-51-P